NATIONAL FOUNDATION ON THE ARTS AND HUMANITIES

Cooperative Agreement for a Project Titled: U.S. Audiences/International Work

AGENCY: National Endowment for the Arts.

ACTION: Notification of availability.

SUMMARY: The National Endowment for the Arts is requesting proposals leading to one (1) award of a Cooperative Agreement for a two year pilot project to devise, implement, document, and assess models for the translation of contemporary performance work from Asia, Africa, or Latin America that has a significant text-based element, and the development of educational strategies that will help audiences understand the cultural and social context from which the work emanates. The initiative will also require implementation of a process for dissemination of information about the models, and facilitation of the touring of the identified works to small and mid-sized communities. Eligibility to apply is limited to tax exempt organizations. Endowment funding will be $200,000. A one-to-one match is required. Eligibility to apply for the Cooperative Agreement is limited to tax exempt organizations. Those interested in receiving the solicitation package should reference Program Solicitation PS 00-04 in their written request and include two (2) self-addressed labels. Verbal requests for the Solicitation will not be honored. It is anticipated that the Program Solicitation will also be posted on the Endowment's Web site at ­http://www.arts.gov.

DATES: Program Solicitation PS 00-04 is scheduled for release approximately May 2, 2000 with proposals due on May 31, 2000.

ADDRESSES: Requests for the Solicitation should be addressed to the National Endowment for the Arts, Grants & Contracts Office, Room 618, 1100 Pennsylvania Ave., NW, Washington, D.C. 20506.

FOR FURTHER INFORMATION CONTACT: William Hummel, Grants & Contracts Office, National Endowment for the Arts, Room 618, 1100 Pennsylvania, Ave., NW., Washington, D.C. 20506 (202-682-5482).

William I. Hummel,
Coordinator, Cooperative Agreements.

[FR Doc. 00-9512 Filed 4-14-00; 8:45 am]

BILLING CODE 7537-01-M